DEPARTMENT OF ENERGY

Federal Energy Regulatory Commission

Combined Notice of Filings #2

Take notice that the Commission received the following electric corporate filings:

Docket Numbers: EC17-100-000.

Applicants: Invenergy TN LLC.

Description: Application for Authorization under section 203 of the Federal Power Act and Request for Waivers and Expedited Action of Invenergy TN LLC.

Filed Date: 4/3/17.

Accession Number: 20170403-5417.

Comments Due: 5 p.m. ET 4/24/17.

Take notice that the Commission received the following electric rate filings:

Docket Numbers: ER17-1374-000.

Applicants: Cube Yadkin Transmission LLC.

Description: Request for Waiver of the Order No. 1000, Transmission Planning Requirements of Cube Yadkin Transmission LLC.

Filed Date: 4/3/17.

Accession Number: 20170403-5492.

Comments Due: 5 p.m. ET 4/24/17.

Docket Numbers: ER17-1375-000.

Applicants: Wabash Valley Power Association, Inc.

Description: § 205(d) Rate Filing: Notice of Succession to be effective5/1/2017.

Filed Date: 4/3/17.

Accession Number: 20170403-5494.

Comments Due: 5 p.m. ET 4/24/17.

Docket Numbers: ER17-1376-000.

Applicants: Midcontinent Independent System Operator, Inc.

Description: Compliance filing: 2017-04-03_Stored Energy Resource-Type II Compliance Filing to be effective 9/1/2017.

Filed Date: 4/3/17.

Accession Number: 20170403-5496.

Comments Due: 5 p.m. ET 4/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2017..
Kimberly D. Bose,
Secretary.

[FR Doc. 2017-06932 Filed 4-6-17; 8:45 am]

BILLING CODE 6717-01-P